FEDERAL COMMUNICATIONS COMMISSION

Notice of Public Information Collection(s) Being Submitted to OMB for Review and Approval

November 26, 2003.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before January 7, 2004. If you anticipate that you will be submitting comments, but find it difficult to do so within the period of time allowed by this notice, you should advise the contact listed below as soon as possible.

ADDRESSES: Direct all comments to Les Smith, Federal Communications Commission, Room 1-A804, 445 12th Street, SW., Washington, DC 20554, or via the Internet to Leslie.Smith@fcc.gov; or Kim A. Johnson, Office of Management and Budget (OMB), Room 10236 NEOB, Washington, DC 20503, (202) 395-3562 or via the Internet at Kim_A._Johnson@omb.eop.gov.

FOR FURTHER INFORMATION CONTACT: For additional information or copy of the information collection(s) contact Les Smith at (202) 418-0217 or via the Internet at Leslie.Smith@fcc.gov.

SUPPLEMENTARY INFORMATION: OMB Control Number: 3060-0945.

Title: Section 79.2, Accessibility of Programming Providing Emergency Information.

Form Number: N/A.

Type of Review: Extension of a currently approved collection.

Respondents: Business and other for-profit entities; Individuals or households; Not-for-profit institutions; and State, local, or tribal governments.

Number of Respondents: 200.

Estimated Time per Response: 1 to 2 hours.

Frequency of Response: Annual and on occasion reporting requirements.

Total Annual Burden: 275 hours.

Total Annual Costs: $5,000.

Needs and Uses: 47 CFR 79.2 states that any broadcast station or multiple video programming distributor (MVPD) that provides local emergency information as part of a regularly schedules newscast or as part of a newscast that interrupts regularly scheduled programming must make the critical details of the information accessible to persons with visual disabilities in the affected local area. Any broadcast station or MVPD that provides emergency information through a crawl or scroll must also accompany that information with an aural tone to alert persons with disabilities that the station or MVPD is providing this information. In addition, 47 CFR 79(c) contains a complaint procedure'a complaint alleging a violation of this section may be transmitted to the FCC. The FCC then will notify the video programming distributor of the complaint, giving the distributor 30 days to reply to the complaint.

Federal Communications Commission.
Marlene H. Dortch,
Secretary.

[FR Doc. 03-30312 Filed 12-5-03; 8:45 am]

BILLING CODE 6712-01-P